DEPARTMENT OF THE INTERIOR

Fish and Wildlife Service

Endangered and Threatened Wildlife and Plants; Notice of Suspension of Trade in Threatened Beluga Sturgeon (Huso huso) From the Black Sea Basin

AGENCY: Fish and Wildlife Service, Interior.

ACTION: Notice.

SUMMARY: We, the Fish and Wildlife Service (Service), give notice that we are suspending import of and foreign commerce in beluga sturgeon (Huso huso) caviar and meat originating in the Black Sea littoral states of Bulgaria, Georgia, Romania, the Russian Federation, Serbia and Montenegro, Turkey, and Ukraine effective immediately. This suspension applies to shipments that have been exported directly from these countries, re-exported through an intermediary country, or transported as personal or household effects, and it prohibits foreign commerce in the course of a commercial activity. We are taking this action under the special rule that was promulgated to control the trade of threatened beluga sturgeon (Huso huso) (70 FR 10493; March 4, 2005). Interstate commerce in beluga sturgeon caviar or meat from the Black Sea basin that was legally imported into the United States before the trade suspension is not prohibited.

DATES: This notice is effective October 28, 2005.

ADDRESSES: Black Sea littoral states wishing to provide information that may allow us to lift this trade suspension may submit it by any one of several methods:

1. You may submit written information to Robert R. Gabel, Chief, Division of Scientific Authority, U.S. Fish and Wildlife Service, 4401 North Fairfax Drive, Room 750, Arlington, Virginia 22203.

2. You may hand-deliver written information to the Division of Scientific Authority, at the above address, or fax your comments to 703-358-2276.

3. You may send information by electronic mail (e-mail) to ScientificAuthority@fws.gov.

FOR FURTHER INFORMATION CONTACT: For further information pertaining to compliance with the special rule, contact Robert R. Gabel, Chief, Division of Scientific Authority, at the address above; telephone, 703-358-1708; fax, 703-358-2276. For further information on application procedures and requirements for threatened species permits, contact the Division of Management Authority, U.S. Fish and Wildlife Service, 4401 N. Fairfax Drive, Room 700, Arlington, Virginia 22203; telephone, 703-358-2104; fax, 703-358-2281.

SUPPLEMENTARY INFORMATION: On April 21, 2004, we listed beluga sturgeon as threatened (69 FR 21425) under the Endangered Species Act of 1973, as amended (16 U.S.C. 1531 et seq.) (Act). We subsequently published a special rule concerning beluga sturgeon (70 FR 10493; March 4, 2005) under section 4(d) of the Act. The special rule, located at 50 CFR 17.44(y) of our regulations, promotes the conservation of the species by allowing the import, export or re-export, and interstate and foreign commerce of beluga sturgeon caviar and meat, without threatened species permits otherwise required under 50 CFR 17.32, from littoral states in the Caspian and Black Sea basins that demonstrate progress on measures to protect and recover the species. The special rule requires countries wishing to export beluga sturgeon caviar or meat to the United States under this exemption to provide, by September 6, 2005, copies of basin-wide cooperative management plans for beluga sturgeon agreed to by all littoral states in the Black Sea or Caspian Sea basin along with copies of national laws implementing the management plans.

Import of and foreign commerce in Black Sea beluga sturgeon suspended. We have not received a basin-wide management plan for beluga sturgeon from any of the littoral states in the Black Sea basin. We received information from Bulgaria, Georgia, and Serbia and Montenegro, including a copy of a document signed by Bulgaria, Romania, and Serbia and Montenegro in which they agree to implement a regional strategy for conservation and sustainable management of sturgeon populations of the northwest Black Sea and lower Danube River. While we applaud the efforts of these countries in working toward regional cooperation, this regional agreement does not fulfill the requirements of the special rule. Under the special rule, the littoral states are required to submit a basin-wide management plan agreed to by all littoral states in the Black Sea basin (not just exporting countries). A regional plan covering only a portion of the Black Sea is not sufficient to meet this requirement. Bulgaria, Georgia, Romania, the Russian Federation, Serbia and Montenegro, Turkey, and Ukraine have therefore failed to meet the conditions of the special rule. As a result, beluga sturgeon caviar (including products containing caviar, such as cosmetics) and meat from these countries are no longer eligible for the exemption from threatened species permits provided by the special rule. Therefore, you may not import or re-export, sell or offer for sale in foreign commerce, or deliver, receive, carry, transport, or ship in foreign commerce in the course of a commercial activity any beluga sturgeon caviar or meat from these Black Sea countries on or after the effective date of this Federal Register notice (see DATES section) without a threatened species permit. Beluga sturgeon caviar or meat originating in these countries that has been shipped on or after the effective date of this Federal Register notice (see DATES section) without a threatened species permit issued under 50 CFR 17.32 will be refused clearance upon arrival in the United States, including shipments that have been exported directly from the countries listed above in this paragraph, re-exported through an intermediary country, or transported as personal or household effects.

Threatened species permits may only be issued for beluga sturgeon from the Black Sea basin if we determine that the proposed import, re-export, or interstate or foreign commerce would meet the regulatory requirements in 50 CFR 17.32. Applicants must demonstrate that their proposed activities would provide for the conservation of the species.

Beluga sturgeon products legally imported before the trade suspension. Beluga sturgeon caviar or meat from Bulgaria, Georgia, Romania, the Russian Federation, Serbia and Montenegro, Turkey, or Ukraine that was legally imported into the United States prior to the trade suspension will continue to be authorized for interstate commerce under the special rule without a threatened species permit. Due to the perishable nature of sturgeon caviar and meat, the exemption for interstate commerce in beluga sturgeon caviar and meat legally imported prior to the trade suspension will continue for a period of no more than 18 months after the date of issuance of the original Convention on International Trade in Endangered Species of Wild Fauna and Flora (CITES) export permit, in accordance with the CITES resolution on the “Conservation of and trade in sturgeons and paddlefish” (Resolution Conf. 12.7 (Rev. CoP13)). Individuals should maintain accurate records to be able to demonstrate that their beluga sturgeon caviar and meat were legally imported prior to the trade suspension.

Conditions for lifting of the trade suspension. Under the special rule, if the littoral states fail to submit a basin-wide management plan for beluga sturgeon, or if we are unable to confirm that all littoral states in the basin are signatories to the plan, we will immediately suspend trade with all littoral states in the basin until we are satisfied that such a management plan exists. Likewise, under the special rule, if the littoral states fail to submit copies of national laws and regulations that implement the basin-wide management plan, we will immediately suspend trade with the given littoral states until we are satisfied that such laws and regulations are in effect. For us to consider lifting the trade suspension, the littoral states of the Black Sea basin must submit a basin-wide management plan for beluga sturgeon. This plan must include all the elements specified in the beluga sturgeon special rule and be signed by all littoral states in the basin. In addition, each littoral state wishing to export beluga sturgeon caviar and meat to the United States under the exemption provided by the special rule must submit copies of their national laws that implement the basin-wide plan. Information on how to submit such materials is located in the ADDRESSES section.

Aquaculture facilities. The special rule allows aquaculture facilities outside the Caspian and Black Sea basins to obtain an exemption from threatened species permits otherwise required under 50 CFR 17.32 if they meet certain conditions. We have not yet received any requests for such an exemption. Under the special rule, there is no deadline for receipt of applications from aquaculture facilities seeking an exemption.

Authority: The authority for this action is the Endangered Species Act of 1973, as amended (16 U.S.C. 1531 et seq.).

Dated: October 13, 2005.
Craig Manson,
Assistant Secretary for Fish and Wildlife and Parks.

[FR Doc. 05-21534 Filed 10-27-05; 8:45 am]

BILLING CODE 4310-55-P